DEPARTMENT OF THE INTERIOR

Bureau of Ocean Energy Management

[OMB Control Number 1010-0176; Docket ID: BOEM-2025-0003]

Agency Information Collection Activities; Renewable Energy on the Outer Continental Shelf and Alternate Uses of Existing Facilities on the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0176 with revisions.

DATES: Comments must be received by BOEM no later than June 24, 2025.

ADDRESSES: Send written comments on this ICR by mail to the BOEM Information Collection Clearance Officer, Anna Atkinson, Bureau of Ocean Energy Management, 45600 Woodland Road, Sterling, Virginia 20166; or by email to anna.atkinson@boem.gov. Please reference OMB control number 1010-0176 in the subject line of your comments. You may comment on the ICR and view related documents by searching for the docket number “BOEM-2025-0003” at https://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point of contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments that you submit in response to this notice are a matter of public record. BOEM will include or summarize each comment in its ICR to OMB for approval of this information collection. You should be aware that your entire comment—including your address, phone number, email address, or other personally identifiable information included in your comment—may be made publicly available at any time. Even if BOEM withholds your personally identifiable information in the context of this ICR, your comment is subject to the Freedom of Information Act (FOIA) (5 U.S.C. 552). Your information will only be withheld if a determination is made that one of the FOIA exemptions to disclosure applies. Such a determination will be made in accordance with the Department of the Interior's (DOI) FOIA implementing regulations (43 CFR part 2) and applicable law.

In order for BOEM to consider withholding from disclosure your personally identifiable information, you must identify, in a cover letter, any information contained in the submittal of your comments that, if released, would constitute a clearly unwarranted invasion of your personal privacy. You must also briefly describe any possible harmful consequences of the disclosure of information, such as embarrassment, injury, or other harm. Note that BOEM will make available for public inspection, in their entirety, all comments submitted by organizations and businesses, or by individuals identifying themselves as representatives of organizations or businesses.

BOEM protects proprietary information in accordance with FOIA, DOI's implementing regulations (43 CFR part 2), and 30 CFR part 580.70, promulgated pursuant to the Outer Continental Shelf Lands Act (OCS Lands Act) (43 U.S.C. 1352(c)).

Title of Collection: “30 CFR part 585, Renewable Energy on the Outer Continental Shelf and 586, Alternate Uses of Existing Facilities on the Outer Continental Shelf.”

Abstract: The ICR addresses the paperwork requirements in the regulations under 30 CFR parts 585 and 586 issued pursuant to the OCS Lands Act, as amended (43 U.S.C. 1331 et seq.). The OCS Lands Act at subsection 8(p) (43 U.S.C. 1337(p)) authorizes the Secretary of the Interior to issue leases, easements, or rights-of-way on the OCS for activities that produce or support production, transportation, or transmission of energy from sources other than oil and gas, including renewable energy. Subsection 8(p) directs the Secretary to issue any necessary regulations to carry out the OCS renewable energy program. The Secretary delegated this authority to BOEM. BOEM issued regulations for OCS renewable energy activities at 30 CFR parts 585 and 586; this notice concerns the reporting and recordkeeping elements required by these regulations.

Respondents are parties interested in obtaining a lease or grant for renewable energy activities on the OCS; lessees and grantees submitting plans for commercial and noncommercial renewable energy projects on the OCS, and, if such plans are approved, constructing, operating, maintaining, and decommissioning those projects; and applicants for, or holders of, rights-of-use and easement for alternate uses of existing facilities on the OCS. BOEM must ensure that these activities are carried out in a manner that provides for, among other things, safety, protection of the environment, and consideration of other OCS users. In order to execute its duties, BOEM requires information regarding potential purchasers of leases, grants, and rights-of-way; their proposed activities; their financial assurance instruments to ensure accrued obligations are met; and their payments to the U.S. Treasury.

BOEM uses forms to collect information to ensure proper and efficient administration of OCS renewable energy leases and grants and to document the financial responsibility of lessees and grantees. Forms BOEM-0002, BOEM-0003, BOEM-0004, and BOEM-0006 are used, respectively, by renewable energy entities on the OCS to assign a grant interest, assign a lease interest, relinquish a lease or grant, and designate an operator. Form BOEM-0005 is used to document a surety's guarantee of lessees' and grantees' performance. BOEM maintains the submitted forms as official lease and grant records.

OMB Control Number: 1010-0176.

Form Number:

• BOEM-0002, “Outer Continental Shelf (OCS) Renewable Energy Assignment of Grant;”

• BOEM-0003, “Assignment of Record Title Interest in Federal OCS Renewable Energy Lease;”

• BOEM-0004, “Outer Continental Shelf (OCS) Renewable Energy Lease or Grant Relinquishment Application;”

• BOEM-0005, “Outer Continental Shelf (OCS) Renewable Energy Lessee's, Grantee's, and Operator's Bond;” and

• BOEM-0006, “Outer Continental Shelf (OCS) Renewable Energy Lease or Grant Designation of Operator.”

Type of Review: Extension of a currently approved collection.

Respondents/Affected Public: Companies interested in renewable energy-related uses on the OCS and holders of leases and grants under 30 CFR parts 585 and 586.

Total Estimated Number of Annual Responses: 485 responses.

Total Estimated Number of Annual Burden Hours: 44,178 hours.

Respondent's Obligation: Mandatory or required to retain or obtain a benefit.

Frequency of Collection: On occasion or annually.

Total Estimated Annual Non-Hour Burden Cost: $2,754,000 non-hour cost burden.

Estimated Reporting and Recordkeeping Hour Burden: The estimated annual hour burden for this collection is 44,178 hours, 485 responses and $2,754,000 non-hour cost burdens. The existing approval is 9,876 annual burden hours, 200 annual responses, and $1,908,000 non-hour cost burdens.

BOEM is updating the overall burden numbers for this OMB control number to align with the recent increase in development activity and to reflect more realistically the manner by which conditional approvals have been used to increase the number and scope of compliance requirements compared to previous estimates. BOEM sets conditions of approval for activities on the OCS to ensure compliance with regulations and project-specific requirements. BOEM has several projects under current leases that recently entered the planning phase, and therefore, these annual burden hours were not counted in the last ICR renewal. BOEM is increasing the annual burden hours to reflect the increase related to the terms and conditions of approval of these projects. The adjustments to the numbers in the burden table for this revision are estimates based on BOEM's knowledge and expertise of the industry and requirements associated with offshore wind projects.

BOEM is also rolling the annual burdens under OMB control number 1010-0195 into this revision of 1010-0176. In 2024, BOEM had two rulemakings tied to 30 CFR 585 and 586. In order to account for the PRA work and for OMB to track the collections of information, BOEM used two OMB control numbers, 1010-0176 and 1010-0195. With the completion of these rulemakings, this revision of OMB control number 1010-0176 will bring all the information collection burdens under one control number, and BOEM will discontinue 1010-0195.

Overall, this ICR increases annual burdens by 34,302 hours to a new total of 44,178 hours. This ICR increases responses by 285 responses to a new total of 485 and increases the non-hour cost burdens by $846,000 to a new total of $2,754,000.

On January 20, 2025, the Presidential memorandum, Temporary Withdrawal of All Ares on the Outer Continental Shelf from Offshore Wind Leasing and Review of the Federal Government's Leasing and Permitting Practices for Wind Projects, was issued. With the hold on wind leasing, BOEM will likely see a decrease in annual burden hours on future renewals of OMB control number 1010-0176, but for this ICR we are continuing to account of the leases moving through the approval process.

The following table details the individual components and estimated hour burdens. In calculating the burdens, BOEM recognized that some of its required information collections are incurred by respondents in the normal course of their activities, like compiling and maintaining business records. BOEM considers some information collection activities to be usual and customary business practices and excluded those activities from its account in estimating the burden.

Burden Table
Section(s) in 30 CFR 585 | Reporting and recordkeeping requirement ¹ | Hour burden | Average number of annual responses | Annual burden hours
|  |  | Non-hour cost burdens
Subpart A—General Provisions
102(e) | Affected State and local governments enter into and participate in task forces, joint planning or coordination agreements after BOEM invitation | 275 | 6 meetings or agreements | 1,650
103; 586.104 | Request general departures not specifically covered elsewhere in part 585 | 24 | 5 requests | 120
105(c); 586.105(c) | Make oral requests or notifications and submit written follow up within 3 business days not specifically covered elsewhere in part 585 | 24 | 3 requests | 72
107; 108; 230(f); 302(a); 409(c); 586.107; 586.203-.213 | Submit evidence of qualifications to hold a lease or grant; submit required supporting information (electronically if required). Qualifications include demonstrating that you have the technical and financial capabilities to conduct the activities authorized by the lease or grant | 24 | 5 submissions | 120
107(b)(1) | Request exception from exclusion or disqualification from participating in transactions covered by Federal non-procurement debarment and suspension system | 15 | 1 exception | 15
106(b)(2), 107(b); 118(c); 315(b); 436; 527(f); 586.107 | Request reconsideration and/or hearing | Requirement not considered IC under 5 CFR 1320.3(h)(9). |  | 0
109; 530(b) | Notify BOEM within 3 business days after learning of any action filed alleging respondent is insolvent or bankrupt | 2 | 1 notice | 2
110 | Notify BOEM in writing of merger, name change, or change of business form no later than 120 days after earliest of either the effective date or filing date | Requirement not considered IC under 5 CFR 1320.3(h)(1). |  | 0
112(b)(5) | Within 30 days of receiving bill, submit processing fee payments for BOEM document or study preparation to process applications and other requests | 1 | 1 submission | 1
|  | 1 payments × $4,000 = $4,000
112(b)(2), (3) | Submit comments on proposed processing fee or request approval to perform or directly pay contractor for all or part of any document, study, or other activity, to reduce BOEM processing costs | 550 | 2 requests | 1,100
112(b) | Perform, conduct, develop, etc., all or part of any document, study, or other activity; and provide results to BOEM to reduce BOEM processing fee | 2,500 | 1 submission | 2,500
112(b) | Pay processing fee for all or part of any document, study, or other activity, and provide results to BOEM to reduce BOEM processing costs | 1 studies payments × $2,750,000 = $2,750,000
118(a); 436(c); 112(b)(7) | Except as stated in paragraph (c), any party adversely affected by a final decision issued by BOEM under this part may appeal that decision to the Interior Board of Land Appeals (IBLA), under part 590 of this chapter and 43 CFR part 4, subpart E | Exempt under 5 CFR 1320.4(a)(2), (c). |  | 0
118(c) | Within 15 days of bid rejection, a bidder may request reconsideration of bid decision or rejection in writing to the Director. Appeals must be accompanied by a statement of reasons | Requirement not considered IC under 5 CFR 1320.3(h)(9). |  | 0
Subtotal |  |  | 25 responses | 5,580
|  |  | $2,754,000 non-hour costs
Subpart C—Issuance of OCS Renewable Energy Leases
200; 224; 231; 235; 236; 238 | These sections contain references to information submissions, approvals, requests, applications, plans, payments, etc., the burdens for which are covered elsewhere in part 585. |  |  | 0
210; 211(a-c); 212 thru 216 | Submit nominations and general comments in response to Federal Register notices on Request for Interest in OCS Leasing, Call for Information and Nominations (Call), Area Identification, and Notices of Sale. Includes industry, State & local governments | Not considered IC as defined in 5 CFR 1320.3(h)(4). |  | 0
210; 211(a-c); 212 thru 216 | Submit comments and required information in response to Federal Register notices on Request for Interest in OCS Leasing, Call for Information and Nominations (Call), Area Identification, and Notices of Sale. Includes industry, State & local governments | 24 | 1 comment | 24
220 thru 223 | Submit bid, payments, and required information in response to Federal Register Final Sale Notice | 5 | 1 bid | 5
225(b) | Within 10 business days, execute 3 copies of lease form and return to BOEM with required payments, including evidence that agent is authorized to act for bidder; if applicable, submit information to support delay in execution—competitive leases | 1 | 1 lease execution | 1
225(f) | The winning bidder must pay the first 12 months' rent under § 585.503(a) within 45 calendar days after receiving a copy of the executed lease from BOEM | 8 | 1 payment | 8
230; 231(a) | Submit unsolicited request and acquisition fee for a commercial or limited lease | 5 | 1 request | 5
231(b) | Submit comments in response to Federal Register notice re-interest of unsolicited request for a lease | 24 | 5 comment | 120
231(h)(1) | Within 10 business days of receiving lease documents, execute and return lease; file financial assurance and supporting documentation—noncompetitive leases | 2 | 1 lease | 2
231(h)(2) | Within 45 days of receiving lease copies, submit payment of the first 12 months' rent | Burdens covered by information collections approved for ONRR 30 CFR Chapter XII. |  | 0
235(b); 236(b) | Request additional time to extend preliminary period of commercial or limited lease, including revised schedule for SAP, COP, or GAP submission | 1 | 3 requests | 3
237(b) | Request lease be dated and effective 1st day of month in which signed | 1 | 1 request | 1
238 | Submit request for development of commercial lease in phases. Request must be supported with details as to which portions of the lease will be reserved for subsequent phased development | 4 | 1 request | 4
Subtotal |  |  | 16 responses | 173
Subpart D—ROW Grants and RUE Grants for Renewable Energy Activities
306; 309; 315; 316 | These sections contain references to information submissions, approvals, requests, applications, plans, payments, etc., the burdens for which are covered elsewhere in part 585. |  |  | 0
302(a); 305; 306 | Submit copies of a request for a new or modified ROW or RUE and required information, including qualifications to hold a grant, in format specified | 5 | 1 request | 5
307; 308(a)(1) | Submit information in response to Federal Register notice of proposed ROW or RUE grant area or comments on notice of grant auction. Comment period will be 30 days | 24 | 100 comments | 2,400
308(a)(2), (b); 316 | Submit bid and payments in response to Federal Register notice of auction for a ROW or RUE grant. Successful bidder in an auction must pay the first year's rent, as provided in § 585.316 | 5 | 12 bids | 60
306, 309 | Submit decision to accept or reject terms and conditions of noncompetitive ROW or RUE grant. ROW or RUE grant becomes effective on the date established by BOEM | 2 | 4 submissions | 8
Subtotal |  |  | 117 responses | 2,473
Subpart E—Lease and Grant Administration
400; 405; 409; 416, 433 | These sections contain references to information submissions, approvals, requests, applications, plans, payments, etc., the burdens for which are covered elsewhere in part 585. |  |  | 0
405(a) | If designated operator is not the lessee or grant holder, they must be identified in the SAP (under § 585.610(a)(3)), COP (under § 585.626(a)(2)), or GAP (under § 585.645(a)(2)), as applicable. If no operator is designated in a SAP, COP, or GAP, BOEM will deem the lessee or grant holder to be the operator. | 1 | 1 designation | 1
405(d) | Submit written notice of change of address | Requirement not considered IC under 5 CFR 1320.3(h)(1). |  | 0
405(e); Form BOEM-0006 | If designated operator (DO) changes, notify BOEM and identify new DO for BOEM approval within 72 hours | 2 | 2 notices | 4
408 thru 411; Forms BOEM-0002 and BOEM-0003 | Within 90 days after last party executes a transfer agreement, submit copies of a lease or grant assignment application, including originals of each instrument creating or transferring ownership of record title, eligibility and other qualifications; and evidence that agent is authorized to execute assignment, in format specified | 1 | 2 requests/submissions | 2
413(d) | BOEM will default to using the terms and conditions in the most recently issued lease or grant to be consolidated for the new lease. BOEM will consider requests for modifications on a case-by-case basis and, in its discretion, approve such requests for good cause | 10 | 10 requests | 100
416(a); 420(a), (b); 428(b) | Submit request for suspension and required information/payment no later than 90 days prior to lease or grant expiration | 10 | 1 request | 10
416(b) | If unable to timely submit a COP or GAP, may request a suspension to extend the preliminary period of lease or grant. Request must include a revised schedule for submission of COP or GAP | 250 | 3 requests | 750
426; 652(a); 235(a), (b) | Request lease or grant renewal no later than 180 days before termination date of your limited lease or grant, or no later than 2 years before termination date of operations term of commercial lease. Submit required information | 250 | 1 request | 250
433 | After your lease or grant terminates, you must make all payments due, including any accrued rentals and deferred bonuses; and perform any other outstanding obligations under the lease or grant within 6 months | 72 | 1 submission | 72
435; 658(c)(2); Form BOEM-0004 | Submit copies of application to relinquish lease or grant, in format specified. ONRR will bill for outstanding payments | 1 | 1 submission | 1
436; 437 | Provide information for reconsideration of BOEM decision to contract or cancel lease or grant area | Requirement not considered IC under 5 CFR 1320.3(h)(9). |  | 0
Subtotal |  |  | 22 responses | 1,190
Subpart F—Payments and Financial Assurance Requirements
An * indicates the primary cites for providing bonds or other financial assurance, and the burdens include any previous or subsequent references throughout part 585 to furnish, replace, or provide additional bonds, securities, or financial assurance (including riders, cancellations, replacements). This subpart contains references to other information submissions, approvals, requests, applications, plans, etc., the burdens for which are covered elsewhere in part 585. In the future BOEM may require electronic filings of certain submissions. | 0
500 thru 509; 586.211 | Submit payer information, payments and payment information, and maintain auditable records according to ONRR regulations or guidance | Burden covered by information collections approved for ONRR 30 CFR Chapter XII. |  | 0
506 | Submit documentation of the gross annual generation of electricity produced by the generating facility on the lease—use same form as authorized by the EIA. Submit operating fee payments to ONRR | Burden covered under DOE/EIA OMB Control Number 1905-0129 |  | 0
510; 506(c)(1) | Submit to the BOEM Director, an application and required information for waiver or reduction of rental or other payment. | 3 | 1 submission | 3
* 516; 525(a) thru (f) | Execute and provide a bond or other authorized financial assurance in the amount of 12 months' rent | 3 | 6 bonds | 18
* 516(a)(1), (b), (c); 517; 525(a) thru (f) | Execute and provide commercial lease supplemental bonds in amounts of 12 months' rent | 3 | 6 bonds | 18
516(a)(2),(3); 521(c) | Execute and provide decommissioning bond or other financial assurance; schedule for providing the appropriate amount | 3 | 6 bonds | 18
517(b)(1) | Submit comments on proposed adjustment to bond amounts | 5 | 1 submission | 5
517(b)(2) | Request bond reduction and submit evidence to justify | 5 | 6 requests | 30
* 520; 521; 525(a) thru (e); Form BOEM-0005 | Execute and provide a bond or other authorized financial assurance in the amount of 12 months' rent | 3 | 6 bonds | 18
525(g) | Surety notice to lessee or ROW/RUE grant holder and BOEM within 5 business days after initiating surety insolvency or bankruptcy proceeding, or Treasury decertifies surety | 2 | 1 surety notices | 2
* 526 Form BOEM-0005 | In lieu of surety bond, pledge other types of securities, including authority for BOEM to sell and use proceeds and submit required information (1 hour for form) | 2 | 1 pledge | 2
526(c) | Provide annual certified statements describing the nature and market value, including brokerage firm statements/reports | 10 | 1 statement | 10
* 527 | Demonstrate financial worth/ability to carry out present and future financial obligations, annual updates, and related or subsequent actions/records/reports, etc | 10 | 11 demonstrations | 110
528 | Provide third-party indemnity; financial information/statements; additional bond information; executed guarantor agreement and supporting information/documentation/agreements | 10 | 1 submission | 10
528(d)(5) | If you or your operator fail to comply with any law, term, or regulation, your guarantor must either take corrective action or provide, within 7 calendar days or other agreed-upon time period, sufficient funds, up to the value of the guaranty, for BOEM to complete corrective action | 2 | 2 guarantor actions | 4
528(d)(6); 532(b) | Guarantor/Surety requests BOEM terminate period of liability and notifies lessee or ROW/RUE grant holder, etc | 1 | 1 request | 1
528(e) | Before the termination of your guaranty, you must provide an acceptable replacement in the form of a bond or other security | 3 | 6 submissions | 18
* 529 | In lieu of surety bond, request authorization to establish decommissioning account, including written authorizations and approvals associated with account. | 2 | 1 request | 2
530 | Notify BOEM promptly (within 3 business days) of lapse in bond or other security/action filed alleging lessee, surety or guarantor et al is insolvent or bankrupt | 5 | 1 notice | 5
531 | If the value of your financial assurance is reduced below the required financial assurance amount because of a default or any other reason, you must provide additional financial assurance sufficient to meet the requirements of this subpart within 45 days or within a different period as specified by BOEM | 1 | 1 submission | 1
533(a)(2) | Provide agreement from surety issuing new bond to assume all or portion of outstanding liabilities | 3 | 1 submission | 3
536(b) | Within 10 business days following BOEM notice, lessee, grant holder, or surety agrees to and demonstrates to BOEM that lease will be brought into compliance | 16 | 1 demonstration | 16
Subtotal |  |  | 61 responses | 294
Subpart G—Plans and Information Requirements
Two ** indicate the primary cites for Site Assessment Plans (SAPs), Construction and Operations Plans (COPs), and General Activities Plans (GAPs); and the burdens include any previous or subsequent references throughout part 585 to submission and approval. This subpart contains references to other information submissions, approvals, requests, applications, plans, etc., the burdens for which are covered elsewhere in part 585. | 0
** 600(a)(1); 601(a), (b); 605 thru 614; 238 | Within time specified after issuance of a competitive lease or grant, or within time specified after determination of no competitive interest, submit copies of SAP, including required information to assist BOEM to comply with NEPA/CZMA such as hazard info, air quality, SEMS, and all required information, certifications, requests, etc., in format specified | 192 | 1 SAP | 192
** 600(a)(2); 601(b); 606(b); 618; 620 thru 628; 632; 633 | If requesting an operations term for commercial lease, within time specified before the end of site assessment term, submit copies of COP, or FERC license application, including required information to assist BOEM to comply with NEPA/CZMA such as hazard info, air quality, SEMS, and all required information, surveys and/or their results, reports, certifications, project easements, supporting data and information, requests, etc., in format specified | 800 | 2 COP submittals | 1,600
|  | 3,848 | 8 projects complying with terms and conditions | ¹ 30,784
** 600(a)(3); 601(c); 640 thru 648; 651; 238 | Within time specified after issuance of a competitive lease or grant, or within time specified after determination of no competitive interest, submit copies of GAP, including required information to assist BOEM to comply with NEPA/CZMA such as hazard info, air quality, SEMS, and all required information, surveys and reports, certifications, project easements, requests, etc., in format specified | 192 | 1 GAP | 192
** 601(b); 622; 628(f)(2); 634; 658(c)(3) | Submit revised or modified COPs, including project easements, and all required additional information | 40 | 1 revised or modified COP | 40
** 613(a), (d), (e); 617 | Submit revised or modified SAPs and required additional information | 50 | 1 revised or modified SAP | 50
612; 647 | Submit copy of SAP or GAP consistency certification and supporting documentation, including noncompetitive leases | 1 | 2 leases | 2
615 | Prepare and submit to BOEM a report annually on November 1st of each year that summarizes your site assessment activities and the results of those activities | 43 | 2 reports | 86
617(a) | Notify BOEM in writing before conducting any site assessment activities not approved, or provided for, in SAP; provide additional information if requested | 10 | 25 notices | 250
618(c) | If, following the technical and environmental review of your submitted COP, BOEM determines that such facilities may not remain in place, you must initiate the decommissioning process, as provided in 30 CFR part 285, subpart I | 24 | 1 action | 24
631 | Request deviation from approved COP schedule | 2 | 6 requests | 12
633(b) | Submit annual, or at other time periods as BOEM determines, COP compliance certification, effectiveness statement, recommendations, reports, supporting documentation, etc | 45 | 1 certification | 45
634(a) | Notify BOEM in writing before conducting any activities not approved or provided for in COP, and provide additional information if requested | 10 | 1 notice | 10
** 642(b); 648; 655; 658(c)(3) | Submit revised or modified GAPs and required additional information | 50 | 1 revised or modified GAP | 50
651 | Before beginning construction of OCS facility described in GAP, complete survey activities identified in GAP and submit initial findings. [This only includes the time involved in submitting the findings; it does not include the survey time as these surveys would be conducted as good business practice.] | 200 | 1 survey/report | 200
653 | Notify BOEM in writing within 30 days of completing installation activities under the GAP | 4 | 2 notices | 8
653 | Submit annual report summarizing findings from activities conducted under approved GAP | 43 | 4 reports | 172
655(a) | Notify BOEM in writing before conducting any activities not approved or provided for in GAP, and provide additional information if requested | 10 | 1 notice | 10
656 | Notify BOEM any time approved GAP activities cease without an approved suspension | 4 | 4 notices | 16
658(c)(1) | If after construction, cable or pipeline deviate from approved COP or GAP, notify affected lease operators and ROW/RUE grant holders of deviation and provide BOEM evidence of such notices | 3 | 1 notice/evidence | 3
659, 700 | Determine appropriate air quality modeling protocol, conduct air quality modeling, and submit 3 copies of air quality modeling report and 3 sets of digital files as supporting information to plans | 70 | 5 reports/information | 350
Subtotal |  |  | 71 responses | 34,096
Subpart H—Environmental and Safety Management, Inspections, and Facility Assessments for Activities Conducted Under SAPs, COPs, and GAPs
701(c), (d) | Notify BOEM if endangered or threatened species, or their designated critical habitat, may be in the vicinity of the lease or grant or may be affected by lease or grant activities | 1 | 150 notices | 150
701(e), (f) | Submit information to ensure proposed activities will be conducted in compliance with the Endangered Species Act (ESA) and Marine Mammal Protection Act (MMPA); including agreements and mitigating measures designed to avoid or minimize adverse effects and incidental take of endangered species or critical habitat | 18 | 3 submissions | 54
702(b), (c) | If requested, conduct further archaeological investigations, and submit report/information | 10 | 4 reports | 40
702(d) | If applicable, submit payment for BOEM costs in carrying out National Historic Preservation Act responsibilities | .5 | 2 payments | 1
703 | If required, conduct additional surveys to define boundaries and avoidance distances and submit report | 15 | 2 surveys/reports | 30
605; 651 | Submit safety management system description with the SAP, COP, or GAP | 16 | 2 submissions | 32
Subtotal |  |  | 163 responses | 307
30 CFR 586—RUEs for Energy- and Marine-Related Activities Using Existing OCS Facilities
200-202 | Contact owner of existing facility and/or lessee of the area to reach preliminary agreement to use facility and obtain concurring signatures; submit request to BOEM for an alternative use RUE, including all required information/modifications | 36 | 1 request | 36
203(a)-(c) | Submit indication of competitive interest in response to Federal Register notice | 4 | 1 submission | 4
203(c) | Submit description of proposed activities and required information in response to Federal Register notice of competitive offering | 5 | 3 submissions | 15
203(f) | Lessee or owner of facility submits decision to accept or reject proposals deemed acceptable by BOEM | 1 | 1 submission | 1
210(c) | Request renewal of Alternate Use RUE | 6 | 1 request | 6
211; 216(b) | Provide financial assurance as BOEM determines in approving RUE for an existing facility, including additional security if required | 1 | 1 submission | 1
213 | Submit request for assignment of an alternative use RUE for an existing facility, including all required information. | 1 | 1 request | 1
215 | Request relinquishment of RUE for an existing facility | 1 | 1 request | 1
Subtotal |  |  | 10 responses | 65
Total burden |  |  | 485 responses | 44,178
|  |  | $2,754,000 Non-hour cost burdens
¹ The annual burden hour reflects the projects in construction phase complying with the COP terms and conditions annually.

An agency may not conduct or sponsor, and a person is not required to respond to, a collection of information unless it displays a currently valid OMB control number.

The authority for this action is the Paperwork Reduction Act of 1995 (44 U.S.C. 3501 et seq.).

Karen Thundiyil,
Director, Office of Regulatory Affairs, Bureau of Ocean Energy Management.

[FR Doc. 2025-07186 Filed 4-24-25; 8:45 am]

BILLING CODE 4340-98-P